DEPARTMENT OF THE TREASURY

Submission for OMB Review; Comment Request

November 21, 2016.

The Department of the Treasury will submit the following information collection requests to the Office of Management and Budget (OMB) for review and clearance in accordance with the Paperwork Reduction Act of 1995, Public Law 104-13, on or after the date of publication of this notice.

DATES: Comments should be received on or before December 27, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

SUPPLEMENTARY INFORMATION:

Community Development Financial Institutions (CDIF) Fund

OMB Control Number: 1559-0021.

Type of Review: Revision of a currently approved collection.

Title: CDFI Program and NACA Program Applications.

Form: 1559-0021-201611-1, 1559-0021-201611-2.

Abstract: The CDFI Fund provides financial assistance in the form of grants, loans, equity investments and deposits to community development financial institutions providing capital and financial services to underserved markets.

Affected Public: Business or other for-profits, Not-for-profit institutions.

Estimated Total Annual Burden Hours: 65,200.

OMB Control Number: 1559-0032.

Type of Review: Revision of a currently approved collection.

Title: Use of Award Report Form.

Form: 1559-0032-201611, CDFI Form 0002.

Abstract: The CDFI Fund administers the BEA Program, CDFI Program, and NACA Program. In an effort to create uniformity in reporting across the CDFI Fund, the CDFI Fund revised the BEA Program Award Report Form so it may be used by the BEA Program as well as the CDFI Program and NACA Program. The revised form has been renamed the “Uses of Award Report Form.” The BEA Program provides incentives to insured depository institutions to increase their support of CDFIs and their activities in economically distressed communities. The CDFI Program uses federal resources to invest in and build the capacity of CDFIs to serve low income people and communities lacking adequate access to affordable financial products and services. The CDFI Fund created the Native Initiatives, which includes the NACA Program, to further support the creation and expansion of Native CDFIs.

Affected Public: Business or other for-profits, Not-for-profit institutions.

Estimated Total Annual Burden Hours: 325.

Bob Faber,
Acting Treasury PRA Clearance Officer.

[FR Doc. 2016-28397 Filed 11-23-16; 8:45 am]

BILLING CODE 4810-70-P